DEPARTMENT OF THE INTERIOR

Bureau of Land Management

[LLWY-957000-14-L13100000-PP0000]

Filing of Plats of Survey, Wyoming and Nebraska

AGENCY: Bureau of Land Management, Interior.

ACTION: Notice.

SUMMARY: The Bureau of Land Management (BLM) is scheduled to file the supplementals and plats of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: These surveys and supplementals were executed at the request of the Bureau of Land Management and the Bureau of Indian Affairs and are necessary for the management of these lands. The lands referenced are:

The plat and field notes representing the dependent resurvey of the Eighth Standard Parallel North, through Range 110 West, the west boundary, portions of the north boundary and subdivisional lines, and the subdivision of certain sections, Township 33 North, Range 110 West, Sixth Principal Meridian, Wyoming, Group No. 758, was accepted August 28, 2014.

The supplemental plat removing those riparian tracts created by survey of riparian lands, shown on the plat accepted August 21, 1987, that were determined through litigation to be non-federally owned, and removes the extension survey of omitted lands lying between the original meanders, canceled March 2, 2000, File 9600 (957). This plat is based upon the plats accepted August 16, 1894, February 14, 1908, November 3, 1919, December 16, 1963, August 21, 1987, November 22, 1996 and September 28, 2001, Township 40 North, Range 116 West, Sixth Principal Meridian, Wyoming, Group No. 870, was accepted August 28, 2014.

The supplemental plat removing those riparian tracts created by survey of riparian lands, shown on the plat accepted August 21, 1987, that were determined through litigation to be non-federally owned, and removes the extension survey of omitted lands lying between the original meanders, canceled March 2, 2000, File 9600 (957). This plat is based upon the plats accepted April 2, 1903, December 16, 1963, February 18, 1966, March 17, 1971, August 21, 1987 and September 28, 2001, Township 40 North, Range 117 West, Sixth Principal Meridian, Wyoming, Group No. 870, was accepted August 28, 2014.

The supplemental plat removing those riparian tracts created by survey of riparian lands, shown on the plat accepted August 21, 1987, that were determined through litigation to be non-federally owned, and removes the extension survey of omitted lands lying between the original meanders, canceled March 2, 2000, File 9600 (957). This plat is based upon the plats accepted June 30, 1893, February 26, 1970, November 9, 1973 and September 28, 2001, Township 41 North, Range 116 West, Sixth Principal Meridian, Wyoming, Group No. 870, was accepted August 28, 2014.

The supplemental plat removing those riparian tracts created by survey of riparian lands, shown on the plat accepted August 21, 1987, that were determined through litigation to be non-federally owned, and removes the extension survey of omitted lands lying between the original meanders, canceled March 2, 2000, File 9600 (957). This plat is based upon the plats accepted February 26, 1970, September 28, 2001, January 13, 2010, March 29, 2010, July 27, 2010 and November 3, 2011, Township 41 North, Range 117 West, Sixth Principal Meridian, Wyoming, Group No. 870, was accepted August 28, 2014.

The supplemental plat in two sheets removing those riparian tracts created by survey of riparian lands, shown on the plat accepted August 21, 1987, that were determined through litigation to be non-federally owned, and removes the extension survey of omitted lands lying between the original meanders, canceled March 2, 2000, File 9600 (957). This plat is based upon the plats accepted August 16, 1894, March 17, 1971, November 9, 1973 and August 21, 1987, Township 42 North, Range 116 West, Sixth Principal Meridian, Wyoming, Group No. 870, was accepted August 28, 2014.

The plat and field notes representing the dependent resurvey of portions of the First Guide Meridian East, through T. 24 N., between Rs. 8 and 9 E., the Sixth Standard Parallel North, through R. 8 E., the subdivisional lines, and the subdivision of sections 3 and 29, Township 24 North, Range 8 East, Sixth Principal Meridian, Nebraska, Group No. 179, was accepted August 28, 2014.

The plat and field notes representing the dependent resurvey of portions of the south boundary, the sudivisional lines, and the subdivision of section 34, and the survey of the subdivision of section 34, Township 26 North, Range 6 East, Sixth Principal Meridian, Nebraska, Group No. 180, was accepted August 28, 2014.

Copies of the preceding described plats and field notes are available to the public at a cost of $1.10 per page.

Dated: September 2, 2014.
John P. Lee,
Chief Cadastral Surveyor, Division of Support Services.

[FR Doc. 2014-21433 Filed 9-8-14; 8:45 am]

BILLING CODE 4310-22-P